DEPARTMENT OF LABOR

Employment and Training Administration

[TA-W-86,089; TA-W-86,089A]

Huntington Alloys Corporation, Special Metals Division, a Subsidiary of Special Metals Corporation, Including On-Site Leased Workers From Kelly Services, Huntington, West Virginia; Huntington Alloys Corporation, Special Metals Division, a Subsidiary of Special Metals Corporation, Burnaugh, Kentucky; Amended Certification Regarding Eligibility To Apply for Worker Adjustment Assistance

In accordance with Section 223 of the Trade Act of 1974, as amended (“Act”), 19 U.S.C. 2273, the Department of Labor issued a Certification of Eligibility to Apply for Worker Adjustment Assistance on January 19, 2016, applicable to workers of Huntington Alloys Corporation, Special Metals Division, a subsidiary of Special Metals Corporation, including on-site leased workers from Kelly Services, Huntington, West Virginia (TA-W-86,089). The Department's notice of determination was published in the Federal Register on February 25, 2016 (81 FR 9510).

At the request of a state workforce office, the Department reviewed the certification for workers of the subject firm. The workers are engaged in activities related to the production of nickel based alloys in a variety of forms including but not limited to ingot, billet, bar, wire rod, tube, plate, and sheet products.

The company reports that workers from Huntington Alloys Corporation, Special Metals Division, a subsidiary of Special Metals Corporation, Burnaugh, Kentucky are engaged in activities related to the production of nickel based alloys in a variety of forms including but not limited to ingot, billet, bar, wire rod, tube, plate, and sheet products.

The intent of the Department's certification is to include all workers of the subject firm who were adversely affected by increased imports of nickel based alloys in a variety of forms including but not limited to ingot, billet, bar, wire rod, tube, plate, and sheet products.

Based on these findings, the Department is amending this certification to include workers from Huntington Alloys Corporation, Special Metals Division, a subsidiary of Special Metals Corporation, Burnaugh, Kentucky.

The amended notice applicable to TA-W-86,089 and TA-W-86,089A is hereby issued as follows:

All workers of Huntington Alloys Corporation, Special Metals Division, a subsidiary of Special Metals Corporation, including on-site leased workers from Kelly Services, Huntington, West Virginia (TA-W-86,089) and Huntington Alloys Corporation, Special Metals Division, a subsidiary of Special Metals Corporation, Burnaugh, Kentucky (TA-W-86,089A) who became totally or partially separated from employment on or after June 10, 2014, through January 19, 2018, and all workers in the group threatened with total or partial separation from employment on date of certification through two years from the date of certification, are eligible to apply for adjustment assistance under Chapter 2 of Title II of the Trade Act of 1974, as amended.

Signed in Washington, DC, this 15th day of December, 2016.
Hope D. Kinglock,
Certifying Officer, Office of Trade Adjustment Assistance.

[FR Doc. 2017-01211 Filed 1-18-17; 8:45 am]

BILLING CODE 4510-FN-P